DEPARTMENT OF ENERGY

Federal Energy Regulatory Commission

[Docket No. RP00-241-011]

El Paso Natural Gas Company; Notice of Compliance Filing

June 2, 2004.

Take notice that on May 27, 2004, El Paso Natural Gas Company (EPNG) tendered for filing as part of its FERC Gas Tariff, Second Revised Volume No. 1-A, the following tariff sheets, with an effective date of July 1, 2004:

Twelfth Revised Sheet No. 202B

Fourth Revised Sheet No. 218

Fourth Revised Sheet No. 219

Original Sheet Nos. 219M-219P

EPNG states that the tariff sheets implement the pro forma tariff sheets approved by the Commission, as modified, that were included as part of the Western Energy Settlement filed in this proceeding.

Any person desiring to be heard or to protest said filing should file a motion to intervene or a protest with the Federal Energy Regulatory Commission, 888 First Street, NE., Washington, DC 20426, in accordance with § 385.214 or § 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1281 Filed 6-8-04; 8:45 am]

BILLING CODE 6717-01-P